DEPARTMENT OF DEFENSE

Department of the Air Force

United States Air Force F-35A Operational Beddown—Pacific

ACTION: Notice of Availability (NOA) Record of Decision (ROD).

SUMMARY: On April 4, 2016, the United States Air Force signed the ROD for the United States Air Force F-35A Operational Beddown—Pacific Final Environmental Impact Statement (EIS). This ROD states the Air Force decision is to select the Proposed Action. The decision means that the Air Force will beddown two squadrons of F-35A aircraft (48 Primary Assigned Aircraft and 6 Backup Inventory) at Eielson Air Force Base, Alaska. The F-35A aircraft will use related airspace and ranges, particularly the Joint Alaska Pacific Range Complex (JAPRC); no new airspace has been proposed to accommodate the F-35A operations.

The decision was based on matters discussed in the Final EIS; inputs from the public, Native American tribes, and Federal, State and local units of government, and regulatory agencies; and other relevant factors. The Final EIS was made available to the public on March 4, 2016 through a NOA in the Federal Register (Volume 81, Number 43, Page 11557) with a post-filing waiting period that ended on April 3, 2016. This ROD documents only the Air Force decision on the proposed actions analyzed in the Final EIS. Authority: This NOA is published pursuant to the regulations (40 CFR 1506.6) implementing the provisions of the National Environmental Policy Act of 1969 (42 U.S.C. 4321, et seq.) and the Air Force's Environmental Impact Analysis Process (32 CFR Secs. 989.21(b) and 989.24(b)(7))

FOR FURTHER INFORMATION CONTACT: Toni Ristau, AFCEC/CZN 2261 Hughes Ave, Ste 155, JBSA Lackland, TX 78236, (210) 925-2738.

Henry Williams,
Acting Air Force Federal Register Liaison Officer.

[FR Doc. 2016-09683 Filed 4-25-16; 8:45 am]

BILLING CODE 5001-10-P